DEPARTMENT OF COMMERCE

National Institute of Standards and Technology

Agency Information Collection Activities; Submission to the Office of Management and Budget (OMB) for Review and Approval; Comment Request; Events and Efforts Supporting Cybersecurity Career Awareness Week

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 27, 2021.

ADDRESSES: Interested persons are invited to submit written comments by mail to Maureen O'Reilly, Management Analyst, NIST by email to PRAcomments@doc.gov). Please reference OMB Control Number 0693-0082 in the subject line of your comments. Do not submit Confidential Business Information or otherwise sensitive or protected information.

FOR FURTHER INFORMATION CONTACT: Requests for additional information or specific questions related to collection activities should be directed to Danielle Santos, NICE Program Office, (301) 975-5048; nice@nist.gov.

SUPPLEMENTARY INFORMATION:

I. Abstract

As part of NIST's charge for National Cybersecurity Awareness and Education outlined in the Cybersecurity Enhancement Act of 2014, the National Initiative for Cybersecurity Education (NICE) energizes and promotes a robust network and an ecosystem of cybersecurity education, training, and workforce development. NICE, led by NIST, fulfills this mission by coordinating with government, academic, and industry partners to build on existing successful programs, facilitate change and innovation, and bring leadership and vision to increase the number of skilled cybersecurity professionals helping to keep our Nation secure.

Further, the NICE Strategic Plan emphasizes a goal to promote the discovery of cybersecurity careers and multiple pathways. In support of this goal, Cybersecurity Career Awareness Week aims to inspire, educate, and engage children through adults to pursue careers in cybersecurity. The annual week-long celebration provides for learning about the contributions, innovations, and opportunities that can be found by exploring cybersecurity as a field of study or career choice. The NICE community is encouraged to organize and participate in activities and initiatives during the week that:

• Create excitement around increasing public awareness and engagement in building a strong cybersecurity workforce.

• Emphasize the demand and opportunities in the field of cybersecurity.

• Increase awareness around the multiple career options within the field of cybersecurity.

• Highlight the numerous pathways to enter the cybersecurity career field.

• Showcase programs that increase participation of women, minorities, veterans, persons with disabilities, and other underrepresented populations in the cybersecurity workforce.

• Advance the NICE Strategic Plan objective to inspire cybersecurity career awareness.

This collection is necessary to support the NICE Strategic Plan objective to inspire cybersecurity career awareness. The collection of information will allow the NICE Program Office to share with the public a compiled list of events and opportunities to learn about cybersecurity careers. Doing so will provide a resource for potential attendees, extend the reach of programs and efforts, serve as a source of metrics for outreach activities and impact, and encourage more stakeholders to get involved in National Cybersecurity Career Awareness Week.

The information gathered in this collection will be populated into publicly accessible list on nist.gov/nice on an on-going basis. The public will access this list to learn about events held by the public to raise cybersecurity career awareness with the intention to increase the reach of and participation at such events. The list will also serve as a resource for those wishing to access information on cybersecurity careers. The information collected will not be analyzed or changed prior to publishing.

Information collected includes basic contact information, such as name, however the data is referential in nature only. Records will not be retrieved by a personal identifier; therefore, this is not a Privacy Act System of Records and does not require a SORN or Privacy Act Statement. The primary goal for this collection is to learn what kind of events are happening and where.

II. Method of Collection

The primary method of collection will be via an electronic (internet) submission form.

III. Data

OMB Control Number: 0693-0082.

Form Number(s): None.

Type of Review: Regular submission, revision of a current information collection.

Affected Public: Business or other for-profit organizations; Not-for-profit institutions; State, Local, or Tribal government; Federal government.

Estimated Number of Respondents: 500.

Estimated Time per Response: 10 minutes.

Estimated Total Annual Burden Hours: 83.

Estimated Total Annual Cost to Public: $0.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-13467 Filed 6-25-21; 8:45 am]

BILLING CODE 3510-13-P